NUCLEAR REGULATORY COMMISSION

[NRC-2014-0163]

Setpoints for Safety-Related Instrumentation

AGENCY: Nuclear Regulatory Commission.

ACTION: Draft regulatory guide; extension of comment period and correction.

SUMMARY: The U.S. Nuclear Regulatory Commission (NRC) is correcting a notice that was published in the Federal Register (FR) on July 11, 2014, announcing the release of draft regulatory guide (DG), DG-1141, “Setpoints for Safety-Related Instrumentation,” for a 60 day public comment period. This action is being taken to correct the Agencywide Documents Access and Management System (ADAMS) Accession number for DG-1141. The document at the corrected ADAMS number includes editorial changes that were not included in the previously referenced version of DG-1141, but there are no technical changes. Due to this error, the NRC is extending the comment period from September 9, 2014, to October 10, 2014.

DATES: This correction is effective immediately. Submit comments by October 10, 2014. Comments received after this date will be considered if practical to do so, but the NRC is able to ensure consideration only for comments received on or before this date.

ADDRESSES: Please refer to Docket ID NRC-2014-0163 when contacting the NRC about the availability of information regarding this document. You may obtain publicly-available information related to this document using any of the following methods:

• Federal Rulemaking Web site: Go to http://www.regulations.gov and search for Docket ID NRC-2014-0163. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft regulatory guide is available electronically in ADAMS under Accession No. ML081630179. The regulatory analysis may be found in ADAMS under Accession No. ML101820157.

• NRC's PDR: You may examine and purchase copies of public documents at the NRC's PDR, Room O1-F21, One White Flint North, 11555 Rockville Pike, Rockville, Maryland 20852.

FOR FURTHER INFORMATION CONTACT: Paul J. Rebstock, telephone: 301-415-7000, email: paul.rebstock@nrc.gov or Mark Orr, telephone: 301-415-7000, email: Mark.Orr@nrc.gov, both of the Office of Nuclear Regulatory Research, U.S. Nuclear Regulatory Commission, Washington, DC 20555-0001.

SUPPLEMENTARY INFORMATION: In the FR on July 11, 2014, in FR Doc. 2014-16165, on page 40164, in the first column, third paragraph under the heading “I. Obtaining Information and Submitting Comments,” the ADAMS Accession number “ML14149A361” is corrected to read “ML081630179.”

Dated at Rockville, Maryland, this 31st day of July 2014.
For the Nuclear Regulatory Commission.
Thomas H. Boyce,
Chief, Regulatory Guidance and Generic Issues Branch, Division of Engineering, Office of Nuclear Regulatory Research.

[FR Doc. 2014-18757 Filed 8-7-14; 8:45 am]

BILLING CODE 7590-01-P